DEPARTMENT OF HEALTH AND HUMAN SERVICES

Food and Drug Administration

[Docket No. FDA-2008-N-0119]

Canned Pacific Salmon Deviating From Identity Standard; Extension of Temporary Permit for Market Testing

AGENCY: Food and Drug Administration, HHS.

ACTION: Notice.

SUMMARY: The Food and Drug Administration (FDA) is announcing the extension of a temporary permit issued to Yardarm Knot Fisheries, LLC, to market test products designated as “skinless and boneless sockeye salmon” that deviate from the U.S. standard of identity for canned Pacific salmon. The extension will allow the permit holder to continue to collect data on consumer acceptance of the product while the agency takes action on a petition to amend the standard of identity for canned Pacific salmon that was submitted by Yardarm Knot Fisheries, LLC.

DATES: The new expiration date of the permit will be either the effective date of a final rule to amend the standard of identity for canned Pacific salmon that may result from the petition or 30 days after denial of the petition, whichever the case may be.

FOR FURTHER INFORMATION CONTACT: Catalina Ferré-Hockensmith, Center for Food Safety and Applied Nutrition (HFS-820), Food and Drug Administration, 5100 Paint Branch Pkwy., College Park, MD 20740, 301-436-2371.

SUPPLEMENTARY INFORMATION: In accordance with § 130.17 (21 CFR 130.17), FDA issued a temporary permit to Yardarm Knot Fisheries, LLC, 3600 15th Avenue West, Suite 300, Seattle, Washington 98119, to market test canned Pacific salmon that deviates from the U.S. standard of identity for canned Pacific salmon (§ 161.170 (21 CFR 161.170)) (73 FR 12180, March 6, 2008). The agency issued the permit to facilitate market testing of a food deviating from the requirements of the standards of identity issued under section 401 of the Federal Food, Drug, and Cosmetic Act (21 U.S.C. 341).

The permit covers limited interstate marketing tests of a product identified as Yardarm Knot “Skinless and Boneless Sockeye Salmon.” This canned salmon product may deviate from the U.S. standard of identity for canned Pacific salmon (§ 161.170) in that the product is prepared by removing the skin and bones of the salmon used. Therefore, in addition to the optional forms of pack provided in § 161.170(a)(3), this temporary marketing permit provides for an alternative “skinless and boneless” form of pack. The test product meets all the requirements of the standard with the exception of the “skinless and boneless” form of pack.

On April 9, 2009, Yardarm Knot Fisheries, LLC, requested that its temporary marketing permit be extended to allow for additional time for the market testing of its test product and indicated that it had moved its corporate office to the address stated below. The petitioner has also submitted a petition requesting that FDA amend the standard of identity for canned Pacific salmon.

The agency finds that it is in the interest of consumers to issue an extension of the time period for the market testing of the product identified in the original permit (73 FR 12180, March 6, 2008). FDA is inviting interested persons to participate in the market test under the conditions that apply to Yardarm Knot Fisheries, LLC, except that the designated area of distribution shall not apply. Any person who wishes to participate in the extended market test must notify, in writing, the Supervisor, Product Evaluation and Labeling Team, Food Labeling and Standards Staff, Office of Nutrition, Labeling and Dietary Supplements, Center for Food Safety and Applied Nutrition (HFS-820), Food and Drug Administration, 5100 Paint Branch Pkwy., College Park, MD 20740. The notification must include a description of the test product to be distributed, a justification statement for the amount requested, the area of distribution, and the labeling that will be used for the test product (i.e., a draft label for each size of container and each brand of product to be market tested). The information panel of the label must bear nutrition labeling in accordance with 21 CFR 101.9. Each of the ingredients used in the food must be declared on the label as required by applicable sections of 21 CFR part 101.

Therefore, under the provisions of § 130.17(i), FDA is extending the temporary permit granted to Yardarm Knot Fisheries, LLC, 2440 West Commodore Way, Suite 200, Seattle, Washington 98199 to provide for continued marketing tests of not more than 1.35 million pounds (or 612 thousand kilograms in weight) annually of the canned Pacific salmon identified in this notice. FDA is extending the expiration date of the permit so that the permit expires either on the effective date of a final rule to amend the standard of identity for canned Pacific salmon that may result from the petition or 30 days after denial of the petition. All other conditions and terms of this permit remain the same.

Dated: December 16, 2009.
Barbara Schneeman,
Director, Office of Nutrition, Labeling and Dietary Supplements, Center for Food Safety and Applied Nutrition.

[FR Doc. E9-31196 Filed 1-4-10; 8:45 am]

BILLING CODE 4160-01-S